EXPORT-IMPORT BANK OF THE UNITED STATES

Notice of Open Special Meeting of the Sub-Saharan Africa Advisory Committee (SAAC) of the Export-Import Bank of the United States (Export-Import Bank)

Summary: The Sub-Saharan Africa Advisory Committee was established by Pub. L. 105-121, November 26, 1997, to advise the Board of Directors on the development and implementation of policies and programs designed to support the expansion of the Bank's financial commitments in Sub-Saharan Africa under the loan, guarantee and insurance programs of the Bank. Further, the committee shall make recommendations on how the Bank can facilitate greater support by U.S. commercial banks for trade with Sub-Saharan Africa.

Time and Place: June 8, 2005 at 9:30 a.m. to 12:30 p.m. The meeting will be held at the Export-Import Bank in Room 1143, 811 Vermont Avenue, NW., Washington, DC 20571.

Agenda: The meeting will include a report on the Africa panel at this year's U.S. Ex-Im Bank annual meeting; a briefing as to Em-Im Bank's involvement in the June 21-24 Corporate Council on Africa's Business Summit being held in Baltimore, MD; an update on the current year's business development efforts in the region; individual reports by the advisory committee's three sub-committees (Country Risk, Credit and Business Development) followed by discussion focusing on the advisory committee's recommendations in accordance with the Congressional mandate; and new business.

Public Participation: The meeting will be open to public participation, and the last 10 minutes will be set aside for oral questions or comments. Members of the public may also file written statement(s) before or after the meeting. If any person wishes auxiliary aids (such as a sign language interpreter) or other special accommodations, please contact, prior to June 8, 2005, Barbara Ransom, Room 1241, 811 Vermont Avenue, NW., Washington, DC 20571, Voice (202) 565-3525 or TDD (202) 565-3377.

FOR FURTHER INFORMATION CONTACT: For further information, contact Barbara Ransom, Room 1241, 811 Vermont Avenue, NW., Washington, DC 20571, (202) 565-3525.

Howard Schweitzer,
Deputy General Counsel

[FR Doc. 05-10485 Filed 5-25-05; 8:45 am]

BILLING CODE 6690-01-M